DEPARTMENT OF THE INTERIOR

Bureau of Land Management

[CA-330-1030-JE-014B]

Headwaters Forest Reserve, California

AGENCY: Bureau of Land Management, DOI.

ACTION: Notice.

SUMMARY: Notice is hereby given related to the restriction of Bureau of Land Management (BLM) administered lands in accordance with regulations contained in 43 CFR 8364.1(a). This action affects approximately 7,400 acres of public land comprising the Headwaters Forest Reserve, located in Humboldt County, CA. Public access into the Reserve from the south along Felt Springs Road is allowed only during BLM guided hikes. The public must contact the BLM Arcata Field Office to make reservations. Employees, agents and permittees of the BLM may be exempt from this restriction as determined by the authorized officer.

DATES: This restriction order will be effective upon the date of publication and will terminate upon the completion and approval of a long range management plan for the area.

ADDRESSES: Maps and supporting documentation are available for review at the following location: Bureau of Land Management, Arcata Field Office, 1695 Heindon Road, Arcata, CA 95521.

FOR FURTHER INFORMATION CONTACT: Lynda J. Roush, BLM, Arcata Field Manager (707) 825-2300.

SUPPLEMENTARY INFORMATION: Limiting public access into the Reserve from the south end is consistent with Environmental Assessment No. 99-15, “Headwaters Forest Reserve: Public Access (South)” and its Decision Record entitled “Public Access to the Southern Part of the Headwaters Forest Reserve.” The decision provides for interim public access with BLM personnel accompanying visitors as they hike along Salmon Creek Trail. Guided hikes are needed to protect the fragile natural resources within the old-growth redwood groves of the Reserve. Limited public access from the south will be allowed from May 15th through November 15th with wet weather restrictions. There will be four guided hikes per week/one hike per day. Each hike is limited to 20-30 visitors. Two days per week are reserved for schools/educational programs.

Lynda J. Roush,
Arcata Field Manager.

[FR Doc. 00-13803 Filed 6-1-00; 8:45 am]

BILLING CODE 4310-40-P